DEPARTMENT OF TRANSPORTATION

Office of the Secretary

Notice of Applications for Certificates of Public Convenience and Necessity and Foreign Air Carrier Permits Filed Under Subpart B (Formerly Subpart Q) During the Week Ending November 10, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0191.

Date Filed: November 5, 2012.

Due Date for Answers, Conforming Applications, or Motion to Modify Scope: November 26, 2012.

Description: Application of Anguilla Air Services Ltd. requesting a foreign air carrier permit and exemption authority to engage in charter foreign air transportation of persons, property and mail, between points in the British Virgin Islands and the United States.

Docket Number: DOT-OST-2012-0192.

Date Filed: November 7, 2012.

Due Date for Answers, Conforming Applications, or Motion to Modify Scope: November 28, 2012.

Description: Application of BH AIR Ltd. (“BH AIR”) requesting a foreign air carrier permit and an exemption authorizing BH AIR to conduct operations to and from the United States to the full extent authorized by the United States-European Union Air Transportation Agreement (“U.S.-E.U. Agreement”), including authority to engage in: (i) Scheduled and charter foreign air transportation of persons, property, cargo and mail from any point(s) behind any Member State(s) of the European Community, via any point(s) in any Member State(s) and via intermediate points to any point(s) in the United States and beyond; (ii) scheduled and charter foreign air transportation of persons, property, cargo and mail between any point(s) in the United States and any point(s) in any member of the European Common Aviation Area; (iii) other charters pursuant to the prior approval requirements; and (iv) transportation authorized by any additional route or other right(s) made available to European Community carriers in the future.

Barbara J. Hairston,
Acting Program Manager, Docket Operations, Federal Register Liaison.

[FR Doc. 2012-28398 Filed 11-21-12; 8:45 am]

BILLING CODE 4910-9X-P